ENVIRONMENTAL PROTECTION AGENCY

40 CFR Part 52

[FRL-7105-5]

Approval and Promulgation of Implementation Plans; Texas; Revisions to General Rules and Regulations for Control of Air Pollution by Permits for New Sources and Modifications; Withdrawal of Direct Final Rule

AGENCY: Environmental Protection Agency (EPA).

ACTION: Withdrawal of direct final rule.

SUMMARY: Due to receipt of adverse comments, EPA is withdrawing the direct final rule to approve revisions to Texas General Rules and Regulations for Control of Air Pollution by Permits for New Sources and Modifications. In the direct final rule published September 24, 2001 (66 FR 48796), we stated that if we received adverse comment by October 24, 2001, the direct final rule would be withdrawn and would not take effect. The EPA will address all public comments in a subsequent final rule based on the proposed rule also published on September 24, 2001 (66 FR 48850). The EPA subsequently received adverse comments on the direct final rule from Public Citizen and from Lowerre & Kelly, Attorneys at Law.

DATES: The Direct final is withdrawn as of November 23, 2001.

ADDRESSES: Copies of documents relevant to this action are available for public inspection during normal business hours at the following locations. Anyone wanting to examine these documents should make an appointment with the appropriate office at least two working days in advance.

EPA, Region 6, Air Permits Section (6PD-R), 1445 Ross Avenue, Dallas, Texas 75202-2733

TNRCC, Office of Air Quality, 12124 Park 35 Circle, Austin, Texas 78753

FOR FURTHER INFORMATION CONTACT: Stanley M. Spruiell, Air Permits Section at (214) 665-7212 or at spruiell.stanley@epa.gov.

List of Subjects in 40 CFR Part 52

Environmental protection, Air pollution control, Carbon Monoxide, Hydrocarbons, Intergovernmental relations, Lead, Nitrogen oxides, Ozone, Particulate matter, Reporting and recordkeeping requirements, Sulfur oxides, Volatile organic compounds.

Dated: November 7, 2001.
Lawrence E. Starfield,
Acting Deputy Regional Administrator, Region 6.

Accordingly, the amendments to the table in § 52.2270(c) published in the Federal Register September 24, 2001 (66 FR 48796) is withdrawn as of November 23, 2001.

[FR Doc. 01-29100 Filed 11-21-01; 8:45 am]

BILLING CODE 6560-50-P